FEDERAL COMMUNICATIONS COMMISSION

47 CFR Part 73

[DA 04-3848; MB Docket No. 04-340, RM-11062; MB Docket No. 04-327, RM-11063]

Radio Broadcasting Services; Crosbyton, TX and Union Gap, WA

AGENCY: Federal Communications Commission.

ACTION: Final rule.

SUMMARY: The Audio Division, at the request of Charles Crawford, allots Channel 264C3 at Crosbyton, Texas, as the community's first local aural transmission service. See 69 FR 54762, published September 10, 2004. Channel 264C3 can be allotted to Crosbyton in compliance with the Commission's minimum distance separation requirements, provided there is a site restriction of 12.5 kilometers (7.7 miles) east of the community. The reference coordinates for Channel 264C3 at Crosbyton are 33-41-30 North Latitude and 101-06-31 West Longitude. The Audio Division, at the request of Linda A. Davidson, allots Channel 285A at Union Gap, Washington, as the community's first local aural transmission service. See 69 FR 54761, published September 10, 2004. Channel 285A can be allotted to Union Gap in compliance with the Commission's minimum distance separation requirements, provided there is a site restriction of 3.4 kilometers (2.1 miles) southeast of the community. The reference coordinates for Channel 285A at Union Gap are 46-31-48 North Latitude and 120-27-18 West Longitude. Because the reference coordinates at Union Gap are located within 320 kilometers (199 miles) of the Canadian border, concurrence of the Canadian Government has been obtained. Filing windows for Channel 264C3 at Crosbyton, Texas and Channel 285A at Union Gap, Washington will not be opened at this time. Instead, the issue of opening a filing window for these channels will be addressed by the Commission in a subsequent order.

DATES: Effective January 31, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket Nos. 04-340 and 04-327, adopted December 15, 2004, and released December 17, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by adding Crosbyton, Channel 264C3.

3. Section 73.202(b), the Table of FM Allotments under Washington, is amended by adding Union Gap, Channel 285A.

Federal Communications Commission.
John A. Karousos,
Assistant Chief, Audio Division, Media Bureau.

[FR Doc. 05-115 Filed 1-4-05; 8:45 am]

BILLING CODE 6712-01-P